DEPARTMENT OF HEALTH AND HUMAN SERVICES

Centers for Disease Control and Prevention

[30DAY-20-00]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-7090. Send written comments to CDC, Desk Officer; Human Resources and Housing Branch, New Executive Office Building, Room 10235; Washington, DC 20503. Written comments should be received within 30 days of this notice.

Proposed Project

CDC Application for Distance Learning Program, Laboratory Training, and other Training—Revision—The Public Health Practice Program Office (PHPPO) in conjunction with the Public Health Training Network (PHTN) and the National Laboratory Training Network (NLTN) at CDC includes the Distance Learning Program which offers self-study, computer-based training, satellite broadcast, video courses, instructor-led field courses, and lab courses related to public health professionals worldwide. Employees of hospitals, universities, medical centers, laboratories, state and federal agencies, and state and local health departments apply for training in an effort to learn up-to-date public health procedures. The “Application for Training” forms are the official applications used for all training activities conducted by the CDC. The Continuing Education (CE) Program, which includes CDC's accreditation to provide Continuing Medical Education (CME), Continuing Nurse Education (CNE), and Continuing Education Unit (CEU) for almost all training activities, requires a unique identifying number, preferably the respondent's Social Security Number (SSN), to positively identify and track individuals who have been awarded CE credit. It is often necessary to identify individuals currently enrolled in courses, or to retrieve historical information as to when a particular individual completed a course or several courses over a time period. This information provides the basis for producing a requested transcript or determining if a person is enrolled in more than one course. The use of the SSN is the only positive way of assigning a unique number to a unique individual for this purpose. However, the use of the SSN is voluntary; if a student chooses not to submit a SSN, CDC assigns a unique identifier. The reason the SSN, rather than an arbitrary assigned number, is preferred is because students are not likely to remember an arbitrary number. A student's participation in the curriculum of self-study courses sometimes spans a number of years. The SSN is necessary for eliminating duplicate enrollments, for properly crediting students with completed course work who have similar names or have changed addresses, or for generating transcripts of previous completed course work on a cumulative basis. Due to the volume of enrollments, CDC Form 36.5 has been previously approved and used for years as an optical mark scan form. Use of this form, along with the use of the SSN, greatly enhances CDC's capability to process a much greater volume of enrollments in less time with much greater accuracy. The total annual burden hours are 4584.

Respondents | No. of respondents | No. of responses/ respondent | Avg. burden of response (in hrs.) | Total burden (in hours)
Application for Training CDC—0.759A | 6,300 | 1 | 5/60 | 525
Application for Laboratory Training—CDC-32.1 | 10,000 | 1 | 5/60 | 833
Application for Distance Learning Program—CDC 36.5 | 40,000 | 1 | 10/60 | 6,666
Total |  |  |  | 8,024

Dated: April 3, 2000.
Charles Gollmar,
Acting Associate Director for Policy Planning and Evaluation, Centers for Disease Control and Prevention.

[FR Doc. 00-9046 Filed 4-11-00; 8:45 am]

BILLING CODE 4163-18-P